DEPARTMENT OF HEALTH AND HUMAN SERVICES

Administration for Children and Families

Proposed Information Collection Activity; Comment Request

Proposed Projects:

Title: Field Test of Social-Emotional and Modified Measures for the Heat Start National Reporting System.

OMB No.: New Collection.

Description: The Administration on Children, Youth and Families (ACYF), Administration for Children and Families (ACF) of the Department of Health and Human Services (HHS) is requesting comments on plans to conduct the field Test of Social-Emotional Measures and Modified Assessment Measures for the Head Start National Reporting System (HSNRS). This study is being conducted under contract with Westat, Xtria, and Pearson (HHS23320052902YC) to examine new and modified measures for HSNRS.

Purposes

The purposes of the field test are to explore the expansion of the HSNR'S coverage of the domain elements of the Head Start Outcomes Framework and to improve the performance of the current HSNRS assessment battery. The Head Start Bureau is interested in expanding the coverage of the HSNRS to include non-cognitive domains, in recognition of the “whole child” orientation of Head Start, in particular social and emotional development. To that end, the Head Start Bureau has reviewed potential measures of social-emotional development and has identified several existing, ratings-based measures as candidates for field testing. Further, the Head Start Bureau is interested in expanding the coverage of the HSNRS to the Physical Health and Development domains of the Head Start Outcomes Framework. Finally, the Quality Assurance Study's findings, Technical Work Group recommendations, and findings from psychometric analysis of first-year implementation data have also suggested some areas for improvement to the current HSNRS assessment battery.

For these purposes, the Head Start Bureau is planning to conduct field tests of measures of social-emotional development and the collection of child health data in fall 2005 and spring 2006. These measures are intended to address the domains of Social and Emotional Development and Physical Health and Development.

Further, the Head Start Bureau will examine modifications to measures in the current HSNRS assessment battery.

The field test will also examine the effectiveness of training procedures and relative feasibility of the selected measures with a diverse set of Head Start programs, staff, and children.

Teacher-Reported Measures of Social-Emotional Development

Five teacher-reported measures of social-emotional development will be field tested in fall 2005 and spring 2006. A teacher-rating approach will be taken because these measures would not place additional burdens (in the form of direct assessment) on the children. These measures have been used in the Family and Child Experiences Survey (FACES) and National Head Start Impact Study (NHSIS) and include:

• Cooperative Classroom Behavior;

• Problem Behaviors;

• Preschool Learning Behavior Scale (PLBS);

• Student-Teacher Relationship Scale (STRS): Short form; and

• Adjustment Scales for Preschool Intervention (ASPI).

Modifications to Current HSNRS Direct Assessment

Modifications to the current HSNRS direct assessment include:

• A new language screener;

• New Letter Naming task; and

• New items in Early Math Skills task using manipulatives.

Health Records Extract

Finally, to expand HSNRS coverage to include health status, child safety, and linkages to health care, the field test will also examine the feasibility of collecting child health information from Head Start programs. Based on these data, indicators of the quality of health service provided by local Head Start programs will be developed. The child health information includes:

• Height;

• Weight;

• Immunization status;

• Dental care records; and

• Occurrences of child injuries requiring medical attention at each center.

Sample

The national probability sample of Head Start programs for the field test will consist of 30 programs, including for Native American programs, selected with probability proportional to size. From each program, up to 6 classrooms will be selected (each classroom will be taught by a different teacher). This will result in a sample of approximately 1,440 children.

Training

A two-day Field-Test training will take place in September 2005. Field-test participants will be trained and certified in the field-tested measures and procedures. A “training-the-trainers” approach will be used. Trainees must pass a written quiz to be certified trainers. For the modified assessment measures, trainees will participate in role play and conduct observed assessment with children. For the social-emotional measures, all field test participants will also receive self-study materials, including an assessor's guide, which they will bring back to their local programs and distribute among their classroom teachers to study and be quizzed on prior to completing the social-emotional measures.

Once trained, field-test participants will return to their programs and train and certify local teachers or other program staff to conduct field-test measures.

Prior to spring data collection on the field tested measures, refresher training materials (e.g., instructional and exercise materials) will be sent to the participating Head Start programs.

Data Collection

Teacher-reported social-emotional development measures will be completed by the lead teacher of each classroom in the sample. Parallel data of the teacher ratings will be collected in each classroom in order to examine inter-rater reliability. Teacher ratings will be collected independently by the lead teacher and by another staff member in the same classroom (e.g., an assistant teacher), if available and qualified.

For modified HSNRS child assessment measures, local assessors will conduct the field-test measures on the sampled kindergarten-eligible children in their program. Data will be recorded on scannable answer forms and submitted to Westat. Assessors will also provide feedback on issues such as ease of administration, time of administration, and clarity of training and instructions. The inter-assessor reliability of these measures will be examined through parallel data collected in the form of the regular HSNRS assessments administered to each child.

Respondents: Head Start Children and Head Start Staff.

Annual Burden Estimates
[Fall 2005]
Instruments | Number of respondents | Number of responses per respondent | Average burden hours per response | Total burden hours
Training on Field Test Measures
Head Start Staff: Participate in Training of Trainers Training | 30 | 1 | 9 | 270
Head Start Staff: Review Self-Study Materials on Teacher-Reported Ratings of Social-Emotional Development | 360 | 1 | 1 | 360
Head Start Staff: Participate in Local Training on Modified Measures | 60 | 1 | 2 | 120
Head Start Staff: Conduct Local Training on Modified Measures | 30 | 1 | 2 | 60
Head Start Staff: Complete Feedback Survey on Training Procedures | 30 | 1 | 1/12 | 2.5
Head Start Staff: Complete Feedback Survey on Training Procedures | 360 | 1 | 1/12 | 30
Field Test of Teach-Reported Ratings of Social-Emotional Development
Head Start Lead Teacher: Complete Teach-Reported Ratings | 180 | 8 | ¼ | 360
Head Start Classroom Staff: Complete Parallel Reacher-Reported Ratings | 180 | 8 | ¼ | 360
Head Start Lead Staff: Complete Feedback Survey on Teacher-Reported Rating Measures | 180 | 1 | 1/12 | 15
Field Test of Modifications to Current HSNRS Direct Child Assessment Battery
Head Start Staff: Administer Modified Measures | 60 | 24 | ¼ | 360
Head Start Staff: Participate in Modified Measures | 1,440 | 1 | ¼ | 360
Field Test of Collection of Child Health Information
Head Start Staff: Collect & Submit Child Health Info | 30 | 48 | 1/12 | 120
Head Start Staff: Demonstrate Procedures for collecting Height and Weight Information | 30 | 1 | ⅙ | 5
Head Start Staff: Complete Feedback Survey on Child Health Data Collection Procedures | 30 | 1 | 1/12 | 2.5
Fall 2005 Totals | 3,000 |  |  | 2,425

Spring 2006
Instruments | Number of respondents | Number of responses per respondent | Average burden hours per response | Total burden hours
Training on Field Test Measures
Head Start Staff: Participate in Training of Trainers Training | 30 | 1 | 3 | 90
Head Start Staff: Review Self-Study materials on Teacher-Reported Ratings of Social-Emotional Development | 360 | 1 | 1 | 360
Head Start Staff: Participate in Local Training on Modified Measures | 60 | 1 | 1 | 60
Head Start Staff: Conduct Local Training on Modified Measures | 30 | 1 | 1 | 30
Head Start Trainers: Complete Feedback Survey on Training Procedures | 30 | 1 | 1/12 | 30
Head Start Staff: Complete Feedback Survey on Training Procedures | 360 | 1 | 1/12 | 30
Field Test of Teacher-Reported Ratings of Social-Emotional Development
Head Start Lead Teacher: Complete Teacher-Reported Ratings | 180 | 8 | ¼ | 360
Head Start Classroom Staff: Complete Parallel Teacher-Reported Ratings | 180 | 8 | ¼ | 360
Head Start Lead Teacher: Complete Feedback Survey on Teacher-Reported Rating Measures | 180 | 1 | 1/12 | 15
Field Test of Modifications to Current HSNRS Direct Child Assessment Battery
Head Start Staff: Administer Modified Measures | 60 | 24 | ¼ | 360
Head Start Children: Participate in Modified Measures | 1,440 | 1 | ¼ | 360
Field Test of Collection of Child Health Information
Head Start Staff: Collect & Submit Child Health Info | 30 | 48 | 1/12 | 120
Head Start Staff: Demonstrate Procedures for collecting Height and Weight Information | 30 | 1 | ⅙ | 5
Head Start Staff: Complete Feedback Survey on Child Health Data Collection Procedures | 30 | 1 | 1/12 | 2.5
Spring 2006 Totals | 3,000 |  |  | 2,155
Grand Totals | 3,000 |  |  | 4,580

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection. E-mail: rsargis@acf.hhs.gov.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: August 17, 2005.
Robert Sargis,
Reports Clearance Officer.

[FR Doc. 05-16640 Filed 8-22-05; 8:45 am]

BILLING CODE 4184-01-M